DEPARTMENT OF ENERGY

Federal Energy Regulatory Commission

[Docket No. CP00-435-000]

Natural Gas Pipeline Company of America; Notice of Application

August 17, 2000.

Take notice that on August 10, 2000, Natural Gas Pipeline Company of America (Natural), 747 East 22nd Street, Lombard, Illinois, 60148, filed an application pursuant to section 7(b) of the Natural Gas Act (NGA) and the Commission's Regulations to abandon interests in offshore lateral, tap and meter facilities and requests a determination that following abandonment, that the facilities will be non-jurisdictional gathering facilities, all as more fully set forth in the application on file with the Commission and open to public inspection. This filing may be viewed on the web at http:www.ferc.fed.us/online/rims.htm (call 202-208-2222 for assistance.).

Any questions regarding this application should be directed to James J. McElligott, Senior Vice President, Natural Gas Pipeline Company of America, 747 East 22nd Street, Lombard, Illinois 60148 (630) 691-3525.

Specifically Natural requests:

(1) Permission and approval to abandon, by sale to Green Canyon Pipe Line Company, L.P., successor to Green Canyon Pipe Line Company, L.L.C. (Green Canyon), a nonjurisdictional gathering company, Natural's 10.60610% interest in 16.82 miles of 24-inch diameter offshore lateral originating in Mustang Island (MUI) Block 758A, offshore, Texas and terminating in Matagorda Island (MI) Block 686, offshore, Texas including related tap facilities and appurtenances (MUI 758A Lateral);

(2) Permission and approval to abandon, by sale to Green Canyon, Natural's 35.00% interest in the MUI 758A Receiving Station consisting of a dual 6-inch meter and liquids extraction and dehydration equipment and appurtenances (MUI 758A Receiving Station) located on the MUI 758 platform authorized in Docket Nos. CP81-215-000 and 001; and

(3) A determination in the Commission's order that following abandonment, and upon transfer to Green Canyon, the relevant interests in the MUI 758A Lateral and MUI 758A Receiving Station will become part of Green Canyon's gathering system and will be nonjurisdictional and not subject to NGA regulation by the Commission, pursuant to section 1(b) of the Natural Gas Act.

Natural states that its interests in the MUI 758A Lateral and the MUI 758A Receiving Station were originally constructed as a means of receiving gas purchased from Chevron U.S.A. Inc. for Natural's system supply to support Natural's merchant function. It is stated that Natural's merchant function terminated effective December 1, 1993. Consequently, Natural states that it no longer has a need for the facilities interests to be abandoned in the present application.

Natural states that it proposes to abandon and transfer these facilities interests to Green Canyon for $0 as these facilities have already been fully depreciated.

Any person desiring to be heard or to make any protest with reference to said application should on or before September 7, 2000, file with the Federal Energy Regulatory Commission, Washington, D.C., 20426, a petition to intervene or a protest in accordance with the requirements of the Commission's Rules of Practice and Procedure (18 CFR 385.214 or 385.211) and the Regulations under the Natural Gas Act (18 CFR 157.20). All protests filed with the Commission will be considered by it in determining the appropriate action to be taken but will not serve to make the protestants parties to the proceeding. Any person wishing to become a party to a proceeding or to participate as a party in any hearing therein must file a petition to intervene in accordance with the Commission's Rules.

Take further notice that, pursuant to the authority contained in and subject to the jurisdiction conferred upon the Commission by sections 7 and 15 of the Natural Gas Act and the Commission's Rules of Practice and Procedure, a hearing will be held without further notice before the Commission or its designee on this application if no motion to intervene is filed within the time required herein, if the Commission on its own review of the matter finds that a grant of the certificate is required by the public convenience and necessity. If a petition for leave is timely filed, or if the Commission on its own motion believes that a formal hearing is required, further notice of such hearing will be duly given.

Under the procedure herein provided for, unless otherwise advised, it will be unnecessary for Natural to appear or be represented at the hearing.

David P. Boergers,
Secretary.

[FR Doc. 00-21442 Filed 8-22-00; 8:45 am]

BILLING CODE 6717-01-M